DEPARTMENT OF COMMERCE

National Oceanic and Atmospheric Administration

RTID 0648-XQ012

Recommendations for a Comprehensive Interagency Seafood Trade Strategy

AGENCY: National Marine Fisheries Service (NMFS), National Oceanic and Atmospheric Administration (NOAA), Commerce.

ACTION: Notice; request for information.

SUMMARY: On May 7, 2020, the White House issued an Executive Order on Promoting American Seafood Competitiveness and Economic Growth. As part of this effort, the Department of Commerce and the United States Trade Representative (USTR) are co-chairing the Interagency Seafood Trade Task Force (Seafood Trade Task Force), which will develop recommendations to provide to USTR for the development of a comprehensive interagency seafood trade strategy. On behalf of the Seafood Trade Task Force co-chairs, NOAA requests written input from interested parties on how best to achieve the objectives of the Seafood Trade Task Force as described in the Executive Order, including improving access to foreign markets for U.S. seafood exports through trade policy and negotiations; resolving technical barriers to U.S. seafood exports; and otherwise supporting fair market access for U.S. seafood products. In addition, interested parties are requested to respond to the questions listed below in the SUPPLEMENTARY INFORMATION section as appropriate. The public input provided in response to this request for information (RFI) will inform the Seafood Trade Task Force as it works with Federal agencies and other stakeholders to develop recommendations to USTR in the preparation of a comprehensive interagency seafood trade strategy.

DATES: Interested persons are invited to submit comments on or before August 1, 2020.

ADDRESSES: Responses should be submitted via email to SeafoodTrade.Strategy@noaa.gov. Include “RFI Response: Interagency Seafood Trade Task Force” in the subject line of the message.

Instructions: Response to this RFI is voluntary. Respondents need not comment on all listed objectives. For all submissions, clearly indicate which objective is being addressed. Email attachments will be accepted in plain text, Microsoft Word, or Adobe PDF formats only. Each individual or institution is requested to submit only one response. The Department of Commerce may post responses to this RFI, without change, on a Federal website. NOAA, therefore, requests that no business proprietary information, copyrighted information, or personally identifiable information be submitted in response to this RFI. Please note that the U.S. Government will not pay for response preparation, or for the use of any information contained in the response.

FOR FURTHER INFORMATION CONTACT: Andrew Lawler, Andrew.Lawler@noaa.gov, 202-689-4590.

SUPPLEMENTARY INFORMATION: On May 7, 2020, the President signed a new Executive Order promoting American seafood competitiveness and economic growth. Specifically, the Executive Order calls for the expansion of sustainable U.S. seafood production through: More efficient and predictable aquaculture permitting; cutting-edge research and development; regulatory reform to maximize commercial fishing; and enforcement of common-sense restrictions on seafood imports that do not meet American standards.

As outlined in Section 11 of the Executive Order, the Secretary of Commerce is establishing a Seafood Trade Task Force to be co-chaired by the Secretary of Commerce and the U.S. Trade Representative (Co-Chairs), or their designees. In addition to the Co-Chairs, the Seafood Trade Task Force will include the following members, or their designees: The Secretary of State; the Secretary of the Interior; the Secretary of Agriculture; the Secretary of Homeland Security; the Director of the Office of Management and Budget; the Assistant to the President for Economic Policy; the Assistant to the President for Domestic Policy; the Chairman of the Council of Economic Advisers; the Under Secretary of Commerce for International Trade; the Commissioner of Food and Drugs; the Administrator of NOAA; and the heads of such other agencies and offices as the Co-Chairs may designate.

The Seafood Trade Task Force will provide recommendations to USTR in the preparation of a comprehensive interagency seafood trade strategy by identifying opportunities to improve access to foreign markets for U.S. seafood products through trade policy and negotiations, resolve technical barriers to U.S. seafood exports, and otherwise support fair market access for U.S. seafood products. USTR will then submit a comprehensive interagency seafood trade strategy to the President, through the Assistant to the President for Economic Policy and the Assistant to the President for Domestic Policy, within 90 days of the receiving the recommendations from the Seafood Trade Task Force.

Questions To Inform Recommendations for the Development of the Comprehensive Interagency Seafood Trade Strategy

Through this RFI, NOAA seeks written public input on how the Administration can best achieve the Seafood Trade Task Force objectives, including but not limited to, responses to the following questions to inform the Task Force recommendations on the development of a comprehensive interagency seafood trade strategy:

1. Which seafood products (to include fish, shellfish, and processed fish and seafood products) are you currently exporting? Please provide the Harmonized Tariff System (HTS) codes for these products.

2. To which countries or other trading partners are you currently exporting?

3. Are there countries or other trading partners to which you are planning to export, or to which you would like to export? Please specify.

4. Are there issues in the markets you currently export to that limit your exports or unnecessarily increase the costs for your exports? Please specify.

5. Are there issues in other markets that have prevented you from exporting? Please specify.

6. Are there other issues that affect the competitiveness of your product in foreign markets? Please specify.

7. Are there barriers that prevent the export of your product to certain markets? Please specify.

Dated: July 7, 2020.
Chris Oliver,
Assistant Administrator for Fisheries, National Oceanic and Atmospheric Administration.

[FR Doc. 2020-14938 Filed 7-9-20; 8:45 am]

BILLING CODE 3510-22-P